OFFICE OF PERSONNEL MANAGEMENT

Agency Information Collection Activities; Proposals, Submissions, and Approvals: Questionnaire for National Security Positions

AGENCY: Office of Personnel Management.

ACTION: 30-Day notice and request for comments.

SUMMARY: In accordance with the Paperwork Reduction Act of 1995, the Office of Personnel Management (OPM) requests clearance from the Office of Management and Budget (OMB) on the renewal of a previously approved information collection request (ICR), Questionnaire for National Security Positions, Standard Form 86 (SF 86), which is completed by civilian employees of the Federal Government, military personnel, and non-Federal employees who perform work for or on behalf of the Federal Government.

DATES: Comments are encouraged and will be accepted until September 6, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: A copy of this ICR, with applicable supporting documentation, may be obtained by email to SuitEAforms@opm.gov, or by contacting Alexys Stanley, 202-606-1800, or U.S. Office of Personnel Management, Suitability Executive Agent Programs, P.O. Box 699, Slippery Rock, PA 16057.

SUPPLEMENTARY INFORMATION: As required by the Paperwork Reduction Act of 1995, OPM is soliciting comments for this collection. The information collection (OMB No. 3206-0005) was previously published in the Federal Register on May 25, 2023, at 88 FR 33943, allowing for a 60-day public comment period. No comments were received.

The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Background

The Questionnaire for National Security Positions, Standard Form 86 (SF 86) is completed by civilian employees of the Federal Government, military personnel, and non-Federal employees who perform work for or on behalf of the Federal Government. For applicants for civilian Federal employment, the SF 86 is to be used only after a conditional offer of employment has been made. The Electronic Questionnaires for Investigations Processing (e-QIP) and National Background Investigation Systems (NBIS) are web-based applications that house the SF 86. A variable in assessing burden hours is the nature of these electronic applications. The electronic applications include branching questions and instructions which provide for an efficient collection of information from the respondent based on varying factors in the respondent's personal history. The burden on the respondent is reduced when the respondent does not have personal history relevant to particular questions. Therefore, the questions do not expand for additional details.

OPM recommends renewal of the form without any proposed changes. This recommendation is due to the forthcoming plan to replace the SF 86 with the Personnel Vetting Questionnaire, which is currently under review for approval by the Office of Management and Budget (87 FR 71700 and 88 FR 12703).

Analysis

Agency: Office of Personnel Management.

Title: Questionnaire for National Security Positions, Standard Form 86 (SF 86).

OMB Number: 3206-0005.

Frequency: On occasion.

Affected Public: Individuals or Households.

Number of Respondents: 470,124.

Estimated Time per Respondent: 150 minutes.

Total Burden Hours: 1,175,310.

Office of Personnel Management.
Kayyonne Marston,
Federal Register Liaison.

[FR Doc. 2023-16806 Filed 8-4-23; 8:45 am]

BILLING CODE 6325-66-P